ENVIRONMENTAL PROTECTION AGENCY

[EPA-HQ-OW-2008-0719; FRL 9940-56-OEI]

Information Collection Request Submitted to OMB for Review and Approval; Comment Request; Cooling Water Intake Structures New Facility Final Rule (Renewal)

AGENCY: Environmental Protection Agency (EPA).

ACTION: Notice.

SUMMARY: The Environmental Protection Agency has submitted an information collection request (ICR), “Cooling Water Intake Structures New Facility Final Rule (Renewal)” (EPA ICR No. 1973.06, OMB Control No. 2040-0241) to the Office of Management and Budget (OMB) for review and approval in accordance with the Paperwork Reduction Act (44 U.S.C. 3501 et seq.). This is a proposed extension of the ICR, which is currently approved through December 31, 2015. Public comments were previously requested via the Federal Register (80 FR 60142) on October 5, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 27, 2016.

ADDRESSES: Submit your comments, referencing Docket ID Number EPA-HQ-OW-2008-0719, to (1) EPA online using www.regulations.gov (our preferred method), by email to ow-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Amelia Letnes, Office of Wastewater Management, Mail Code 4203M, Environmental Protection Agency, 1200 Pennsylvania Ave. NW., Washington, DC 20460; telephone number: 202-564-5627; email address: letnes.amelia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Abstract: Section 316(b) of the Clean Water Act (CWA) provides that “[a]ny standard established pursuant to [CWA section 301] or [CWA section 306] and applicable to a point source shall require that the location, design, construction, and capacity of cooling water intake structures reflect the best technology available for minimizing adverse environmental impact.”

The section 316(b) New Facility Rule (66 FR 65256; December 18, 2001) and minor amendments (68 FR 36749; June 19, 2003) implement section 316(b) of the CWA as it applies to new facilities that use cooling water intake structures (CWISs). The rule requires new facilities to submit several distinct types of information as part of their National Pollutant Discharge Elimination System (NPDES) permit application. In addition, the rule requires new facilities to maintain monitoring and reporting data as outlined by the Director in their NPDES permits. The information requirements in this Information Collection Request (ICR) are necessary to ensure that new facilities are complying with the rule's provisions, and thereby minimizing adverse environmental impact resulting from impingement and entrainment losses due to the withdrawal of cooling water.

Form Numbers: None.

Respondents/affected entities: State Governments, Private Entities

Respondent's obligation to respond: Mandatory per Clean Water Act (CWA) section 316(b).

Estimated number of respondents: 145 (total).

Frequency of response: Annually, on occasion

Total estimated burden: 151,789 hours (per year). Burden is defined at 5 CFR 1320.03(b)

Total estimated cost: $11,817,460 (per year), includes $2,267,728 annualized capital or operation & maintenance costs.

Changes in the Estimates: There is an increase of 13,368 hours in the total estimated respondent burden compared with the ICR currently approved by OMB. This increase is due to expected growth in the number of permitted facilities over the next three years.

Courtney Kerwin,
Acting Director, Collection Strategies Division.

[FR Doc. 2015-32611 Filed 12-24-15; 8:45 am]

BILLING CODE 6560-50-P